JUDICIAL CONFERENCE OF THE UNITED STATES

Advisory Committee on Evidence Rules; Hearing of the Judicial Conference

AGENCY: Judicial Conference of the United States.

ACTION: Advisory Committee on Evidence Rules; notice of cancellation of open hearing.

SUMMARY: The following public hearing on proposed amendments to the Federal Rules of Evidence has been canceled: Evidence Rules Hearing on February 12, 2025.

DATES: February 12, 2025.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION:

The announcement for this hearing was previously published in the Federal Register on July 31, 2024 at 89 FR 61498.

(Authority: 28 U.S.C. 2073.)

Dated: January 13, 2025.
Shelly L. Cox,
Management Analyst, Rules Committee Staff.

[FR Doc. 2025-01059 Filed 1-16-25; 8:45 am]

BILLING CODE 2210-55-P